DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the following information collection: OFCCP Reporting and Recordkeeping Requirements: Supply and Service.

DATES: Written comments must be submitted to the office listed in the addressee section below by December 19, 2001.

ADDRESSES: Please submit comments to Ms. Patricia A. Forkel, U. S. Department of Labor, 200 Constitution Ave., NW., Room S-3201, Washington, DC 20210, telephone (202) 693-0339 fax (202) 693-1451, EMail pforkel@fenix2.dol-esa.gov. For questions concerning this information collection request, please contact Mr. James Melvin, U. S. Department of Labor, Office of Federal Contract Compliance Programs, telephone (202) 693-0102.

SUPPLEMENTARY INFORMATION:

I. Background

The Office of Federal Contract Compliance is responsible for the administration of equal opportunity programs prohibiting employment discrimination and requiring affirmative action and applies to Federal contractors and subcontractors. OFCCP administers three programs: Executive Order 11246, as amended; Section 503 of the Rehabilitation Act of 1973, as amended; and the affirmative action provisions of the Vietnam Era Veterans' Readjustment Assistance Act of 1974, as amended, (VEVRAA), 38 USC 4212. This information collection contains all recordkeeping and reporting requirements which are derived from the implementing regulations found at Title 41 of the Code of Federal Regulations, chapter 60.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor (DOL) is seeking an extension of this information collection in order to substantiate compliance with nondiscrimination and affirmative action requirements monitored by OFCCP.

Type of Review: Extension.

Agency: Employment Standards Administration.

Title: OFCCP Recordkeeping and Reporting Requirements: Supply and Service.

OMB Number: 1215-0072.

Affected Public: Business or other for-profit; not-for-profit institutions; State, Local or Tribal Government.

Total Annual Respondents/Responses: 95,311.

Requirements | Average hours per response | Frequency | Number of responses
Recordkeeping:
Initial Development of AAP | 112.65 | Once | 953
Update of AAP | 51.14 | Annually | 95,054
Maintenance of AAP | 51.14 | Annually | 94,358
Uniform Guidelines on Employee Selection Procedures | 2.18 | Annually | 5,750
Reporting:
Standard Form 100 | 3.8 | Annually | 36,741
Scheduling Letter | 4.5 | On occasion | 2,595
Compliance Check Letter | .4 | On occasion | 2,000

Estimated Total Burden Hours: 9,967,675.

Total Burden Cost (capital/startup): $0.

Total Burden Cost (operating/maintenance): $23,096.

Comments submitted in response to this notice will be summarized and/or included in the request for Office of Management and Budget approval of the information collection request; they will also become a matter of public record.

Dated: December 7, 2001.
Margaret J. Sherrill,
Chief, Branch of Management Review and Internal Control, Division of Financial Management, Office of Management, Administration and Planning, Employment Standards Administration.

[FR Doc. 01-31212 Filed 12-18-01; 8:45 am]

BILLING CODE 4510-CM-P